DEPARTMENT OF THE INTERIOR

Bureau of Land Management

[LLUT980300-L11200000-PH0000-24-1A]

Utah Resource Advisory Council/Recreation Resource Advisory Council Meeting/Conference Call

AGENCY: Bureau of Land Management, Interior.

ACTION: Notice of Meeting/Conference Call

SUMMARY: In accordance with the Federal Land Policy and Management Act, the Federal Advisory Committee Act, and the Federal Lands Recreation Enhancement Act, the Bureau of Land Management's (BLM) Utah Resource Advisory Council (RAC)/Recreation Resource Advisory Council (RRAC) will host a meeting/conference call.

DATES: The Utah RAC/RRAC will host a meeting/conference call on Friday, Jan. 10, 2014, from 8:00 a.m.-5:00 p.m., MST.

ADDRESSES: Those attending in person must meet at the BLM, Utah State Office, 440 West 200 South, Salt Lake City, Utah, in the Monument Conference Room on the fifth floor.

FOR FURTHER INFORMATION CONTACT: If you wish to listen to the teleconference, orally present material during the teleconference, or submit written material for the RAC/RRAC to consider during the teleconference, please notify Sherry Foot, Special Programs Coordinator, Bureau of Land Management, Utah State Office, 440 West 200 South, Suite 500, Salt Lake City, Utah 84101; phone (801)539-4195; or, sfoot@blm.gov by Monday, Jan. 6, 2014.

SUPPLEMENTARY INFORMATION: BLM-Utah's Executive Leadership Team collaborated to produce a Draft Program Development and Budget Strategic Plan that will define BLM-Utah's organization vision and provide an important starting point for meeting future challenges. The RAC will have a discussion and provide comments on the draft plan. The RRAC will listen to fee presentations from the BLM Grand Staircase-Escalante National Monument, which is proposing to increase camping, day-use and group reservation picnic fees at Calf Creek Recreation Area and Deer Creek Campground. The BLM Moab Field Office is proposing to charge expanded amenity fees at the Bitter Creek, Westwater, Hideout, Cowskin, Fish Ford, and Swasey's Rapid Campgrounds. The U.S. Forest Service will present fee proposals on the Miller Flat Campground, Orange Olsen Dwelling and Bunkhouse; reduce the fee area, designate three separate stand-alone sites, and eliminate the Standard Amenity Fee at the American Fork Canyon-Recreation Fee Area; eliminate the current fee area designation and designate specific recreation sites and special recreation fee areas for groomed winter trail systems at the Mirror Lake Scenic Byway Recreation Fee Area.

Presentations will also be given on the Utah Greater Sage-Grouse Draft Land Use Plan Amendment and Environmental Impact Statement and the newly-created Utah Office of Outdoor Recreation.

A half-hour public comment period will take place from 11:45 a.m.-12:15 p.m. The meeting is open to the public; however, transportation, lodging, and meals are the responsibility of the participating individuals.

The conference call will be recorded for purposes of minute-taking. Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Jenna Whitlock,
Associate State Director.

[FR Doc. 2013-28470 Filed 11-26-13; 8:45 am]

BILLING CODE 4310-DQ-P